DEPARTMENT OF TRANSPORTATION

Federal Aviation Administration

Notice of Release From Federal Surplus Property and Grant Assurance Obligations at Lost Hills Airport, Lost Hills, California

AGENCY: Federal Aviation Administration, DOT.

ACTION: Notice of request to release airport land and permanently close airport.

SUMMARY: The Federal Aviation Administration (FAA) proposes to rule and invites public comment for the release of approximately 336 acres of airport property at the Lost Hills Airport (Airport) in Lost Hills, California from all conditions contained in the Surplus Property Deed and Grant Assurances because the Airport land is not needed for airport purposes. The land requested to be released is located at the northeast corner of State Route 46 and Lost Hills Road in Lost Hills California. The subject land is adjacent to offsite agricultural uses, sewage treatment ponds and residential and commercial development. On the west side of the Airport there is a small industrial lease area and one water well. Whereas, on the southwest portion of the Airport there is a soccer complex, County public park and fire station. The Airport land will be sold via County public auction at Fair Market Value (FMV) for either its existing use as industrial/public facility or conversion to agricultural use. The County public park and fire station currently located on Airport land will be sold at its FMV for continued uninterrupted use. The proceeds from the sale of airport land will be reinvested into Meadows Field and Kern Valley airports, therefore benefitting general aviation. Unamortized Airport Improvement Program Grant funds in the amount of $426,289 will be reinvested into general aviation grant projects at either Meadows Field Airport or Kern Valley Airport, both located in Kern County, California.

DATES: Comments must be received on or before March 11, 2019.

FOR FURTHER INFORMATION CONTACT: Comments on the request must be mailed or delivered to the FAA at the following address: George Aiken, Federal Aviation Administration, Office of Airports, Western-Pacific Region, AWP-610.1, Federal Register Comment, 777 S Aviation Boulevard, Suite 150, El Segundo, CA 90245. Phone: (424) 405-7306. Additionally, one copy of the comment submitted to the FAA must be mailed or delivered to Mark Witsoe, Director of Airports, County of Kern, 3701 Wings Way, Bakersfield, CA 93308.

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by surplus property conveyance deeds or grant agreements.

The Following Is a Brief Overview of the Request

The County of Kern, Department of Airports, requested a release from Federal surplus property and grant assurance obligations for approximately 336 acres of airport land, at Lost Hills Airport (L84), to allow for its permanent closure and sale and reinvestment into Meadows Field and Kern Valley Airports. The property was originally acquired pursuant to the Surplus Property Act of 1944 and was deeded to the County of Kern on October 25, 1948. The property is located in the rural community of Lost Hills, in Kern County, California, approximately 46 miles northwest of downtown Bakersfield. The Airport land is not needed for airport purposes, has zero based aircraft and no aviation services are currently available.

The Airport land area includes an industrial lease area, soccer complex, County public park and fire station. The soccer complex lease has been terminated and will be sold as part of the airport land auction. The County park and fire station will be released separately based on Fair Market Value to the County for continued public use. Basic utilities are available in the area for future capital improvements, however, there are no irrigation water rights with the property for agricultural use.

The County of Kern will sell the land at fair market value. The sales proceeds will provide general aviation improvements at Meadows Field and Kern Valley airports, thereby serving the interests of general aviation.

Issued in El Segundo, California, on January 30, 2019.
Brian Q. Armstrong,
Manager, Safety and Standards Branch, Office of Airports, Western-Pacific Region.

[FR Doc. 2019-01493 Filed 2-6-19; 8:45 am]

BILLING CODE 4910-13-P